ENVIRONMENTAL PROTECTION AGENCY

[CERCLA-02-2023-2003; FRL-11171-01-R2]

Proposed CERCLA Cost Recovery Settlement for the Frankfort Asbestos Superfund Site, Village of Frankfort, Herkimer County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement (“Settlement”) pursuant to CERCLA, with Crown Container Transfer Station Co., Inc. (“Settling Party”) for the Frankfort Asbestos Superfund Site (“Site”), located in the Village of Frankfort, Herkimer County, New York.

DATES: Comments must be submitted on or before September 22, 2023.

ADDRESSES: Requests for copies of the proposed Settlement and submission of comments must be via electronic mail. Comments should reference the Frankfort Asbestos Superfund Site, Frankfort, Herkimer County, New York, Index No. CERCLA-02-2023-2003. For those unable to communicate via electronic mail, please contact the EPA employee identified below.

FOR FURTHER INFORMATION CONTACT: Jocelyn Scott, Attorney, Office of Regional Counsel, New York/Caribbean Superfund Branch, U.S. Environmental Protection Agency, 290 Broadway, 17th Floor, New York, NY 10007-1866. Email: scott.jocelyn@epa.gov Telephone: 212-637-3179.

SUPPLEMENTARY INFORMATION: The Settling Party will pay $55,000 to the EPA Hazardous Substance Superfund in partial reimbursement of EPA's past response costs paid in connection with the Site. This payment shall be made within 30 days of the Effective Date of the Settlement. The Settlement includes a covenant by EPA not to sue or to take administrative action against the Settling Party pursuant to section 107(a) of CERCLA, 42 U.S.C. 9607(a), with regard to EPA's past response costs as provided in the Settlement. For thirty (30) days following the date of publication of this notice, EPA will receive written comments relating to the Settlement. EPA will consider all comments received and may modify or withdraw its consent to the Settlement if comments received disclose facts or considerations that indicate that the proposed Settlement is inappropriate, improper, or inadequate. EPA's response to any comments received will be available for public inspection at EPA Region 2, 290 Broadway, New York, New York 10007-1866.

Pasquale Evangelista,
Director, Superfund & Emergency Management Division U.S. Environmental Protection Agency Region 2.

[FR Doc. 2023-18097 Filed 8-22-23; 8:45 am]

BILLING CODE 6560-50-P